ENVIRONMENTAL PROTECTION AGENCY

[FRL-8256-6]

Proposed Settlement Agreement

AGENCY: Environmental Protection Agency (EPA).

ACTION: Notice of Proposed Settlement Agreement; Request for Public Comment.

SUMMARY: In accordance with section 113(g) of the Clean Air Act, as amended (“Act”), 42 U.S.C. 7413(g), notice is hereby given of a proposed settlement agreement, to address lawsuits filed by Pasadena Refining Systems, Inc. (“Petitioner”) in the United States Court of Appeal for the Fifth Circuit: Pasadena Refining Systems, Inc. v. EPA, No. 04-60982 and No. 05-60551 (Fifth Cir.). Petitioner requested judicial review of various letters sent by EPA officials in which the EPA officials responded to PRSI's request to determine whether PRSI would qualify for small refiner status under 40 CFR 80.550 of EPA's Nonroad Diesel regulations. Petitioners also requested judicial review of EPA's decision to approve, in part, PRSI's request for hardship relief under 40 CFR 80.560 of EPA's Nonroad Diesel regulations.

DATES: Written comments on the proposed settlement agreement must be received by January 16, 2007.

ADDRESSES: Submit your comments, identified by Docket ID number EPA-HQ-OGC-2006-0932, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m. Monday through Friday, excluding legal holidays. Comments on a disk or CD-ROM should be formatted in Word or ASCII file, avoiding the use of special characters and any form of encryption, and may be mailed to the mailing address above.

FOR FURTHER INFORMATION CONTACT: Gretchen Graves, Air and Radiation Law Office (2344A), Office of General Counsel, U.S. Environmental Protection Agency, 1200 Pennsylvania Ave., NW., Washington, DC 20460; telephone: (202) 564-5581; fax number (202) 564-5603; e-mail address: graves.gretchen@epa.gov.

SUPPLEMENTARY INFORMATION:

I. Additional Information About the Proposed Settlement

PRSI, the purchaser of the Crown Central Petroleum refinery at Pasadena, Texas, requested judicial review of various letters sent by EPA officials in response to an inquiry from PRSI to determine whether PRSI would qualify for small refiner status under 40 CFR 80.550 of EPA's Nonroad Diesel regulations. Petitioners also requested judicial review of EPA's decision to approve, in part, PRSI's request for hardship relief under 40 CFR 80.560 of EPA's Nonroad Diesel regulations. The proposed settlement would resolve these lawsuits.

The proposed settlement agreement is available for review in the docket described above. For a period of thirty (30) days following the date of publication of this notice, the Agency will receive written comments relating to the proposed settlement agreement from persons who were not named as parties or intervenors to the litigation in question. EPA or the Department of Justice may withdraw or withhold consent to the proposed settlement agreement if the comments disclose facts or considerations that indicate that such consent is inappropriate, improper, inadequate, or inconsistent with the requirements of the Act. Unless EPA or the Department of Justice determines, based on any comment which may be submitted, that consent to the settlement agreement should be withdrawn, the terms of the agreement will be affirmed.

PRSI has claimed that a dollar amount contained in section A.5 of the attached compliance plan contains confidential business information (“CBI”). EPA has not determined whether the term is entitled to confidential treatment under EPA's Freedom of Information Act regulations. 40 CFR part 2, subpart B. According to our regulations, EPA can not release information claimed as confidential before a CBI determination is made. Id. Therefore, EPA has redacted that term for purposes of this notice, based on this claim. EPA invites comment on all aspects of the proposed settlement and the appropriateness of its terms, including comments regarding the appropriate dollar amount to include in section A.5.

II. Additional Information About Commenting on the Proposed Settlement

A. How Can I Get a Copy of the Settlement?

The official public docket for this action (identified by Docket ID No. EPA-HQ-OGC-2006-0932) contains a copy of the settlement. An electronic version of the public docket is available through http://www.regulations.gov. You may use the www.regulations.gov to submit or view public comments, access the index listing of the contents of the official public docket, and to access those documents in the public docket that are available electronically. Once in the system, select “search,” then key in the appropriate docket identification number.

B. How and To Whom Do I Submit Comments?

Direct your comments to the official public docket for this action under Docket ID No. EPA-HQ-OGC-2006-0932. You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through www.regulations.gov, your e-mail address is automatically captured and included as part of the comment that is placed in the official public docket, and made available in EPA's electronic public docket.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

Dated: December 7, 2006.
Richard B. Ossias,
Associate General Counsel.

[FR Doc. E6-21377 Filed 12-14-06; 8:45 am]

BILLING CODE 6560-50-P